DEPARTMENT OF COMMERCE

National Oceanic and Atmospheric Administration

50 CFR Part 648

[Docket No. 160120042-6042-01]

RIN 0648-BF69

Magnuson-Stevens Fishery Conservation and Management Act Provisions; Fisheries of the Northeastern United States; Northeast Groundfish Fishery; Recreational Management Measures

AGENCY: National Marine Fisheries Service (NMFS), National Oceanic and Atmospheric Administration (NOAA), Commerce.

ACTION: Supplemental notice of proposed rulemaking; extension of comment period.

SUMMARY: This action corrects an error in the Gulf of Maine haddock closed season in the proposed rule to implement 2016 recreational groundfish management measures for Gulf of Maine cod and haddock. NMFS is also extending the public comment period to provide additional time for the public to submit comments on the corrected measure.

DATES: The public comment period for the proposed rule published at 81 FR 11168, March 3, 2016, is extended from March 18, 2016, to March 25, 2016. Comments must be received no later than March 25, 2016.

ADDRESSES: You may submit comments on this document, identified by NOAA-NMFS-2016-0011, by either of the following methods:

Electronic Submission: Submit all electronic public comments via the Federal e-Rulemaking Portal.

1. Go to http://www.regulations.gov/#!submitComment;D=NOAA-NMFS-2016-0011-0001.

2. Click the “Comment Now!” icon, complete the required fields, and

3. Enter or attach your comments.

—OR—

Mail: Submit written comments to: John K. Bullard, Regional Administrator, National Marine Fisheries Service, 55 Great Republic Drive, Gloucester, MA 01930. Mark the outside of the envelope, “Comments on groundfish recreational fishing management measures.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

In support of the proposed action, NMFS prepared a supplemental environmental assessment (EA) to Framework Adjustment 55 to the Northeast Multispecies Fishery Management Plan. The Framework 55 EA was prepared by the New England Fishery Management Council. Copies of the Framework 55 EA and supplemental EA are available from: John K. Bullard, Regional Administrator, National Marine Fisheries Service, 55 Great Republic Drive, Gloucester, MA 01930. The Framework 55 EA and supplement are also accessible via the Internet at: http://www.greateratlantic.fisheries.noaa.gov/sustainable/species/multispecies/.

FOR FURTHER INFORMATION CONTACT: Mark Grant, Sector Policy Analyst, phone: 978-281-9145; email: Mark.Grant@noaa.gov.

SUPPLEMENTARY INFORMATION:

Proposed Modifications to Recreational Management Measures

On March 3, 2016, NMFS published a proposed rule in the Federal Register (81 FR 11168) to increase recreational fishing opportunities for Gulf of Maine (GOM) cod and haddock starting May 1, 2016. The proposed changes would allow anglers to retain one cod per day during the months of August and September, and retain up to 15 haddock per day for most of the fishing year.

Need for Modification

NMFS intended to propose measures that were recommended by the New England Fishery Management Council. However, the proposed rule contained errors in the dates that GOM haddock possession would be prohibited. The New England Fishery Management Council recommended that haddock possession be prohibited in the GOM from March 1 through April 14, but NMFS inadvertently proposed a closed season from April 15 through April 30. Only the dates in the proposed rule and supplemental EA were incorrect. All of the information and analysis in the rule and supplemental EA were based on the correct dates and, therefore, are unaffected by this error. The final supplemental EA also will include the corrected dates. Table 1 in this rule summarizes the corrected proposed measures compared to the current fishing year 2015 measures.

Table 1—Corrected Proposed Changes to GOM Cod and Haddock Recreational Management Measures
Stock | Current 2015 measures: Per day possession limit (fish per angler) | Current 2015 measures: Minimum fish size | Current 2015 measures: Season when possession is permitted | Proposed 2016 measures: Per day possession limit (fish per angler) | Proposed 2016 measures: Minimum fish size | Proposed 2016 measures: Season when possession is permitted
GOM Cod | Possession Prohibited Year-Round |  |  | 1 | 24 inches (61.0 cm) | August 1-September 30.
GOM Haddock | 3 | 17 inches (43.2 cm) | May 1, 2015-August 31, 2015 and November 1, 2015-February 29, 2016 | 15 | 17 inches (43.2 cm) | Year Round Except March 1-April 14.
* The recreational cod prohibition is proposed to be rescinded in Framework 55. This action would establish the actual recreational fishing effort regulations if the prohibition is removed.

The proposed rule published March 3, 2016 (81 FR 11168), contained additional detail on the recent stock assessments and the increase to recreational catch limits for GOM cod and GOM haddock that are included in Framework Adjustment 55; the bio-economic model used to estimate 2016 recreational GOM cod and haddock mortality under various combinations of minimum sizes, possession limits, and closed seasons; and how management alternatives and the proposed measures were developed (see ADDRESSES). That information is not repeated here. Additional information and analyses on these alternatives is included in a supplemental Environmental Assessment (see ADDRESSES). Table 2 in this rule compares the estimated fishing year 2016 mortality of GOM cod and GOM haddock by the corrected management alternatives.

Table 2—Estimated Fishing Year 2016 Mortality of GOM Cod and Haddock by Corrected Management Alternative*
Alternative | Haddock: Bag limit | Haddock: Size limit (in/cm) | Haddock: Open season | Haddock: Total mortality (mt) | Haddock: Total mortality as percent of quota | Cod: Bag limit | Cod: Size limit (in/cm) | Cod: Open season | Cod: Total mortality (mt) | Cod: Total mortality as percent of quota | Angler trips
Current Recreational Measures | 3 | 17/43.2 | Waves 3, 4, 6, 1 | 405 | 44 | 0 | n/a | Closed | 66 | 42 | 117,139
2016 RAP Recommendation | 15 | 17/43.2 | All year, except March 1-April 14 | 709 | 76 | 1 | 24/61.0 | Jul—Aug. | 132 | 84 | 168,125
2016 Committee Recommendation | 15 | 17/43.2 | All year, except March 1-April 14 | 707 | 76 | 1 | 24/61.0 | Sept—Oct. | 114 | 73 | 167,549
2016 Council Recommendation | 15 | 17/43.2 | All year, except March 1-April 14 | 707-709 | 76 | 1 | 24/61.0 | Aug—Sept. | 114-132 | 73-84 | 167,549-168,125
* The model cannot split a wave of data; the numbers provided under alternative 4 are a range between alternatives 2 and 3. Council recommended Framework 55 fishing year 2016 GOM haddock recreational catch limit = 928 mt. Council recommended Framework fishing year 2016 GOM cod recreational catch limit = 157 mt.

Public Comment Extension

The public comment period for the original proposed rule ends on March 18, 2016. We provided a 15-day comment period for this rule which, coupled with extensive public comment periods at three different Council-related meetings during the development of this action, would provide sufficient opportunity for public input on the proposed measures. Because of the need to correct an error in the proposed rule, we have extended the comment period for an additional 7 days until March 25, 2016, to allow public comment on the corrected measures. These measures need to be in effect on May 1, 2016, and recreational fishing businesses and fishermen are currently scheduling fishing trips. This correction will provide them with additional information to assist their planning efforts. Because the proposed measures would increase fishing opportunities, announcing a final decision on these measures quickly will provide additional support to recreational fishing businesses.

List of Subjects in 50 CFR Part 648

Fisheries, Fishing, Recordkeeping and reporting requirements.

Dated: March 14, 2016.
Samuel D. Rauch III,
Deputy Assistant Administrator for Regulatory Programs, National Marine Fisheries Service.

For the reasons set out in the preamble, 50 CFR part 648, as published at 81 FR 11168, March 3, 2016, is proposed to be further amended as follows:

PART 648—FISHERIES OF THE NORTHEASTERN UNITED STATES

1. The authority citation for part 648 continues to read as follows:

Authority: 16 U.S.C. 1801 et seq.

2. In § 648.89, revise paragraphs (c)(1)(ii), (c)(2), and (c)(8) to read as follows:

§ 648.89 Recreational and charter/party vessel restrictions.

* * * * *

(c) * * *

(1) * * *

(ii) Each person on a private recreational fishing vessel, fishing from August 1 through September 30, may possess no more than one cod per day in, or harvested from, the EEZ when fishing in the GOM Regulated Mesh Area specified in § 648.80(a)(1); with the exception that each person on a private recreational vessel in possession of cod caught outside the GOM Regulated Mesh Area specified in § 648.80(a)(1) may transit this area with more than one such cod per person up to the possession limit specified at § 648.89(c)(1)(i), provided all bait and hooks are removed from fishing rods and any cod on board has been gutted and stored.

* * * * *

(2) Charter or party vessels. (i) Each person on a charter/party fishing vessel permitted under this part and not fishing under a NE multispecies DAS program or on a sector trip may possess unlimited cod when fishing outside of the GOM Regulated Mesh Area specified in § 648.80(a)(1).

(ii) Each person on a charter or party vessel permitted under this part, fishing from August 1 through September 30, and not fishing under the NE multispecies DAS program or on a sector trip, may possess no more than one cod per day in the GOM Regulated Mesh Area specified in § 648.80(a)(1); with the exception that each person on a charter or party vessel in possession of cod caught outside the GOM Regulated Mesh Area specified in § 648.80(a)(1) may transit this area with more than one such cod up to any possession limit under § 648.89(c)(2)(ii), provided all bait and hooks are removed from fishing rods and any cod on board has been gutted and stored.

(iii) For purposes of counting fish, fillets will be converted to whole fish at the place of landing by dividing the number of fillets by two. If fish are filleted into a single (butterfly) fillet, such fillet shall be deemed to be from one whole fish.

(iv) Cod harvested by a charter or party vessel with more than one person aboard may be pooled in one or more containers. Compliance with the possession limits will be determined by dividing the number of fish on board by the number of persons on board. If there is a violation of the possession limits on board a vessel carrying more than one person, the violation shall be deemed to have been committed by the owner or operator of the vessel.

(v) Cod must be stored so as to be readily available for inspection.

* * * * *

(8) Haddock—(i) Outside the Gulf of Maine—(A) Private recreational vessels. Each person on a private recreational vessel may possess unlimited haddock in, or harvested from, the EEZ when fishing outside of the GOM Regulated Mesh Area specified in § 648.80(a)(1).

(B) Charter or party vessels. Each person on a charter or party fishing vessel permitted under this part, and not fishing under the NE multispecies DAS program or on a sector trip, may possess unlimited haddock in, or harvested from, the EEZ when fishing outside of the GOM Regulated Mesh Area specified in § 648.80(a)(1).

(ii) Gulf of Maine—(A) Private recreational vessels. Each person on a private recreational vessel in possession of haddock caught outside the GOM Regulated Mesh Area specified in § 648.80(a)(1) may transit this area with more than the GOM haddock possession limit specified at § 648.89(c)(8)(ii) up to the possession limit specified at § 648.89(c)(8)(i), provided all bait and hooks are removed from fishing rods and any haddock on board has been gutted and stored.

(1) May through February. Each person on a private recreational fishing vessel, fishing from May 1 through February 28 (February 29 in leap years), may possess no more than 15 haddock per day in, or harvested from, the EEZ when fishing in the GOM Regulated Mesh Area specified in § 648.80(a)(1).

(2) March 1 through April 14. When fishing in the GOM Regulated Mesh Area specified in § 648.80(a)(1), persons aboard private recreational fishing vessels may not fish for or possess any haddock from March 1 through April 14.

(3) April 15 through April 30. Each person on a private recreational fishing vessel, fishing from April 15 through April 30, may possess no more than 15 haddock per day in, or harvested from, the EEZ when fishing in the GOM Regulated Mesh Area specified in § 648.80(a)(1).

(B) Charter or party vessels. Each person on a charter or party fishing vessel permitted under this part, and not fishing under a NE multispecies DAS program or on a sector trip, in possession of haddock caught outside the GOM Regulated Mesh Area specified in § 648.80(a)(1) may transit this area with more than GOM haddock possession limit per person up to the possession limit specified at § 648.89(c)(8)(i), provided all bait and hooks are removed from fishing rods and any haddock on board has been gutted and stored.

(1) May through February. Each person on a charter or party fishing vessel permitted under this part, and not fishing under the NE multispecies DAS program or on a sector trip, fishing from May 1 through February 28 (or 29 in leap years), may possess no more than 15 haddock per day in, or harvested from, the EEZ when fishing in the GOM Regulated Mesh Area specified in § 648.80(a)(1).

(2) March 1 through April 14. When fishing in the GOM Regulated Mesh Area specified in § 648.80(a)(1), persons aboard a charter or party fishing vessel permitted under this part, and not fishing under the NE multispecies DAS program or on a sector trip, may not fish for or possess any haddock from March 1 through April 14.

(3) April 15 through April 30. Each person on a charter or party fishing vessel permitted under this part, and not fishing under the NE multispecies DAS program or on a sector trip, fishing from April 15 through April 30, may possess no more than 15 haddock per day in, or harvested from, the EEZ when fishing in the GOM Regulated Mesh Area specified in § 648.80(a)(1).

(iii) For purposes of counting fish, fillets will be converted to whole fish at the place of landing by dividing the number of fillets by two. If fish are filleted into a single (butterfly) fillet, such fillet shall be deemed to be from one whole fish.

(iv) Haddock harvested in or from the EEZ by private recreational fishing boats or charter or party boats with more than one person aboard may be pooled in one or more containers. Compliance with the possession limit will be determined by dividing the number of fish on board by the number of persons on board. If there is a violation of the possession limit on board a vessel carrying more than one person, the violation shall be deemed to have been committed by the owner or operator of the vessel.

(v) Haddock must be stored so as to be readily available for inspection.

* * * * *

[FR Doc. 2016-06179 Filed 3-17-16; 8:45 am]

BILLING CODE 3510-22-P